DEPARTMENT OF HEALTH AND HUMAN SERVICES

Centers for Disease Control and Prevention

[Docket No. CDC-2015-0049]

Notice of Availability of a Revised Environmental Assessment for HHS/CDC Lawrenceville Campus Proposed Improvements 2015-2025, Lawrenceville, Georgia

AGENCY: Centers for Disease Control and Prevention (CDC), Department of Health and Human Services (HHS).

ACTION: Notice of availability and request for comment.

SUMMARY: The Centers for Disease Control and Prevention (CDC), within the Department of Health and Human Services (HHS), announces the availability and opportunity for public review and comment of a revised Environmental Assessment (EA) for the HHS/CDC Lawrenceville Campus Proposed Improvements 2015-2025 on the HHS/CDC Lawrenceville Campus, Lawrenceville, Georgia. The revised EA has been prepared in accordance with the National Environmental Policy Act of 1969 (NEPA), as amended (42 U.S.C. 4321 et seq.), the Council on Environmental Quality (CEQ) implementing regulations (40 CFR 1500-1508) and the HHS General Administration Manual (GAM) Part 30 Environmental Procedures, dated February 25, 2000.

DATES: Written comments must be received by October 23, 2017.

ADDRESSES: You may submit comments, identified by Docket No. CDC-2015-0049 by any of the following methods:

• Federal eRulemaking Portal: http://www.regulations.gov. Follow the instructions for submitting comments.

• Mail: Comments submitted by mail should be sent to Stephen Klim, RA, LEED Green Associate Architect Centers for Disease Control and Prevention, Centers for Disease Control and Prevention, 1600 Clifton Road NE., MS-K96, Atlanta, Georgia 30329, Attn: Docket No. CDC-2015-0049.

Instructions: All submissions received must include the agency name and Docket Number. All relevant comments received will be posted without change to http://regulations.gov, including any personal information provided. For access to the docket to read background documents or comments received, go to http://www.regulations.gov.

Hard copies of the revised EA are available for review at the following locations:

Gwinnett County Public Library, Lawrenceville Branch, 1001 Lawrenceville Hwy, Lawrenceville, GA 30046, Telephone: (770) 978-5154.

Gwinnett County Public Library, Five Forks Branch, 2780 Five Forks Trickum Road, Lawrenceville, GA 30044-5865, Telephone: (770) 978-5154.

Gwinnett County Public Library, Grayson Branch, 700 Grayson Parkway, Grayson, GA 30017-1208, Telephone: (770) 978-5154.

FOR FURTHER INFORMATION CONTACT: Stephen Klim, RA, Office of Safety, Security, and Asset Management, Centers for Disease Control and Prevention, 1600 Clifton Road NE., MS-K96, Atlanta, Georgia 30329, Telephone: (770)488-8009.

SUPPLEMENTARY INFORMATION: On February 16, 2016 CDC published a Notice of Availability for the Final Environmental Assessment (2016 Final EA) and Finding of No Significant Impact (FONSI) for the HHS/CDC's Lawrenceville Campus Proposed Improvements 2015-2025 (81 FR 7800). The proposed improvements identified in the 2016 Final EA included (1) building demolition; (2) new building construction, including an approximately 12,000 gross square feet (gsf) Science Support Building, a new Transshipping and Receiving Area at approximately 2,500 gsf and two new Office Support Buildings at approximately 8,000 gsf and 6,000 gsf; (3) expansion and relocation of parking on campus; and (4) the creation of an additional point of access to the campus and pedestrian improvements. The 2016 Final EA concluded that no significant impacts to the human or natural environment would result and HHS/CDC issued a FONSI.

Since completion of the 2016 Final EA and FONSI, HHS/CDC proposed changes to the Proposed Action. HHS/CDC has revised the EA to include the installation of a photovoltaic system within the northern portion of the campus. The photovoltaic system would consist of a 249.9-kilowat (KW) ground-mounted solar array covering an area of approximately 41,750 sf (0.99 acre). The proposed photovoltaic system would provide the Lawrenceville Campus with a renewable energy source in order to comply with federal renewable energy mandates.

The revised EA evaluates the potential environmental impacts of the proposed photovoltaic system, along with the proposed improvements identified in the 2016 Final EA. Potential impacts of the No Build and the Build Alternative are evaluated on the following resource categories: Socioeconomics; land use; zoning; public policy; community facilities; transportation; air quality; noise; cultural resources; urban design and visual resources; natural resources; utilities; waste; and greenhouse gases and sustainability.

Dated: September 18, 2017.
Lauren Hoffman,
Acting Executive Secretary, Centers for Disease Control and Prevention.

[FR Doc. 2017-20104 Filed 9-21-17; 8:45 am]

BILLING CODE 4163-18-P